INTERNATIONAL TRADE COMMISSION

[Investigation Nos. 701-TA-253 and 731-TA-132, 252, 271, 273, 532-534, and 536 (Fifth Review)]

Circular Welded Pipe and Tube From Brazil, India, Mexico, South Korea, Taiwan, Thailand, and Turkey; Notice of Commission Determination To Conduct Full Five-Year Reviews

AGENCY: United States International Trade Commission.

ACTION: Notice.

SUMMARY: The Commission hereby gives notice that it will proceed with full reviews pursuant to the Tariff Act of 1930 to determine whether revocation of the countervailing duty order on circular welded pipe and tube from Turkey and revocation of the antidumping duty orders on circular welded pipe and tube from Brazil, India, Mexico, South Korea, Taiwan, Thailand, and Turkey would be likely to lead to continuation or recurrence of material injury within a reasonably foreseeable time. A schedule for the reviews will be established and announced at a later date.

DATES: April 10, 2023.

FOR FURTHER INFORMATION CONTACT: Andres Andrade (202-205-2078), Office of Investigations, U.S. International Trade Commission, 500 E Street SW, Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its internet server (https://www.usitc.gov). The public record for these reviews may be viewed on the Commission's electronic docket (EDIS) at https://edis.usitc.gov.

For further information concerning the conduct of these reviews and rules of general application, consult the Commission's Rules of Practice and Procedure, part 201, subparts A through E (19 CFR part 201), and part 207, subparts A, D, E, and F (19 CFR part 207).

SUPPLEMENTARY INFORMATION: On April 10, 2023, the Commission determined that it should proceed to full reviews in the subject five-year reviews pursuant to section 751(c) of the Tariff Act of 1930 (19 U.S.C. 1675(c)).¹ The Commission found that the domestic interested party group response to its notice of institution (88 FR 107, January 3, 2023) was adequate and that the respondent interested party group response was inadequate, but the Commission found that other circumstances warranted conducting full reviews.² A record of the Commissioners' votes will be available from the Office of the Secretary and at the Commission's website.

¹ Commissioners Rhonda K. Schmidtlein and Randolph J. Stayin dissented.

² Chairman David S. Johanson also found the respondent group response to be adequate in the five-year review concerning imports of circular welded pipe and tube from Brazil.

Authority: These reviews are being conducted under authority of title VII of the Tariff Act of 1930; this notice is published pursuant to § 207.62 of the Commission's rules.

By order of the Commission.
Issued: April 13, 2023.
Lisa Barton,
Secretary to the Commission.

[FR Doc. 2023-08159 Filed 4-17-23; 8:45 am]

BILLING CODE 7020-02-P